DEPARTMENT OF THE INTERIOR

Bureau of Land Management

[NV-056-1430-ES; N-73990]

Notice of Realty Action: Direct Sales

AGENCY: Bureau of Land Management.

ACTION: Direct Sale of Reversionary Interest—Recreation or Public Purposes Patent, Number 27-99-0008.

SUMMARY: The following described public land in Las Vegas, Clark County, Nevada, was patented to West Charleston Baptist Church on February 19, 1999 under the Recreation or Public Purpose Act for a church and school. West Charleston Baptist Church requests the purchase of the reversionary interest. The land has been examined and found suitable for sale at fair market value under the provisions of the Federal Land Policy and Management Act (43 CFR 2711.3-3).

Mount Diablo Meridian, Nevada

T. 20 S., R. 60 E., Sec. 7: Lots 22, 27-30

Containing 25.00 acres, more or less.

The land is not required for any federal purpose. The direct sale is consistent with current Bureau planning for this area and would be in the public interest. The patent will be subject to the provisions of the Federal Land Policy and Management Act and applicable regulations of the Secretary of the Interior, and the land will continue to be subject to the following reservations to the United States:

1. A right-of-way thereon for ditches or canals constructed by the authority of the United States, Act of August 30, 1890 (43 U.S.C. 945).

2. All minerals shall be reserved to the United States, together with the right to prospect for, mine and remove such deposits from the same under applicable law and such regulations as the Secretary of the Interior may prescribe and will be subject to:

1. A 40 foot easement in width along the North boundary and a 30 foot easement along the West boundary of Lot 22, sec. 7, T. 20 S., R. 60 E., Mount Diablo Meridian, Nevada; TOGETHER with a 20 foot spandral area in the Northwest corner of Lot 22, sec. 7, T. 20 S., R. 60 E., Mount Diablo Meridian, Nevada, in favor of the City of Las Vegas, for roads, public utilities, and flood control purposes to insure continued ingress and egress to adjacent lands.

2. A 30 foot easement in width along the West boundary of Lot 27, sec. 7, T. 20 S., R. 60 E., Mount Diablo Meridian, Nevada, in favor of the City of Las Vegas, for roads, public utilities, and flood control purposes to insure continued ingress and egress to adjacent lands.

3. An easement covering the West 20 feet of the East 45.5 feet of Lots 28 and 29, sec. 7, T. 20 S., R. 60 E., Mount Diablo Meridian, Nevada, in favor of the City of Las Vegas, for roads, public utilities, and flood control purposes to insure continued ingress and egress to adjacent lands.

4. A 30 foot easement in width along the South boundary of Lot 29, sec. 7, T. 20 S., R. 60 E., Mount Diablo Meridian, Nevada, in favor of the City of Las Vegas, for roads, public utilities, and flood control purposes to insure continued ingress and egress to adjacent lands.

5. A 30 foot easement in width along the South boundary and a 30 foot easement in width along the West boundary of Lot 30, sec. 7, T. 20 S., R. 60 E., Mount Diablo Meridian, Nevada, in favor of the City of Las Vegas, for roads, public utilities, and flood control purposes to insure continued ingress and egress to adjacent lands.

6. Those rights for public roadway purposes which have been granted to Clark County, its successors or assigns, by right-of-way No. N-59722 the pursuant to the Act of October 21, 1976 (43 U.S.C.1761).

Detailed information concerning this action is available for review at the office of the Bureau of Land Management, Las Vegas District, 4765 W. Vegas Drive, Las Vegas, Nevada.

The lands have been segregated from all forms of appropriation under the Southern Nevada Public Lands Management Act (P.L. 105-263).

For a period of 45 days from the date of publication of this notice in the Federal Register, interested parties may submit comments regarding the proposed direct sale to the Las Vegas Field Manager, Las Vegas Field Office, 4765 Vegas Drive, Las Vegas, Nevada 89108.

Comments: Interested parties may submit comments regarding whether the BLM followed proper administrative procedures in reaching the decision or any other factor not directly related to the suitability of the land for a direct sale. Any adverse comments will be reviewed by the State Director.

In the absence of any adverse comments, the decision will become effective February 2, 2001. The lands will not be offered for conveyance until after the decision becomes effective.

Dated: November 21, 2000.
Mark T. Morse,
Field Manager, Las Vegas, NV.

[FR Doc. 00-30704 Filed 12-01-00; 8:45 am]

BILLING CODE 4510-HC-P